DEPARTMENT OF STATE

[Public Notice: 10823]

Renewal of International Security Advisory Board

The Department of State announces the renewal of the Charter of the International Security Advisory Board (ISAB).

The purpose of the ISAB is to provide the Department with a continuing source of independent insight, advice, and innovation on all aspects of arms control, disarmament, nonproliferation, cybersecurity, the national security aspects of emerging technologies, and international security, and related aspects of public diplomacy. The ISAB will remain in existence for two years after the filing date of the Charter unless terminated.

For more information, please contact Christopher M. Herrick, Executive Director of the International Security Advisory Board, Department of State, Washington, DC 20520, telephone: (202) 647-9683.

(Authority: 41 CFR part 102-3.65)

Christopher M. Herrick,
Executive Director, International Security Advisory Board, Department of State.

[FR Doc. 2019-15285 Filed 7-17-19; 8:45 am]

BILLING CODE 4710-27-P